SMALL BUSINESS ADMINISTRATION

[Declaration of Disaster #3347; Amendment #1]

State of Texas

In accordance with a notice received from the Federal Emergency Management Agency, dated June 18, 2001, the above-numbered Declaration is hereby amended to include Grimes and Harrison Counties in the State of Texas as disaster areas caused by Tropical Storm Allison occurring on June 5, 2001 and continuing.

In addition, applications for economic injury loans from small businesses located in Marion and Washington Counties in the State of Texas; and Caddo Parish in the State of Louisiana may be filed until the specified date at the previously designated location. Any counties contiguous to the above named primary counties and not listed here have been previously declared.

All other information remains the same, i.e., the deadline for filing applications for physical damage is August 8, 2001, and for loans for economic injury is March 8, 2002.

(Catalog of Federal Domestic Assistance Program Nos. 59002 and 59008.)
Dated: June 19, 2001.
James E. Rivera,
Acting Associate Administrator for Disaster Assistance.

[FR Doc. 01-15915 Filed 6-25-01; 8:45 am]

BILLING CODE 8025-01-P